DEPARTMENT OF DEFENSE

Office of the Secretary

Privacy Act of 1974; System of Records; Correction

AGENCY: Office of the Secretary, Department of the Navy, Department of the Air Force, DoD.

ACTION: Notice; correction.

SUMMARY: On Thursday, September 13 and Friday, September 14, 2012, the Department of Defense published 13 notices titled “Privacy Act of 1974; System of Records.” In each of these notices, the DATES section contained a 31-day and 30-day insert date. Since the 31-day effective date and 30-day comment date fell on a weekend, the Office of the Federal Register pushed both dates forward to Monday, October 15, 2012. However, the 31-day effective date was meant to read “October 16, 2012”, one day after the 30-day comment date. This notice corrects these effective dates.

DATES: This correction is effective on September 20, 2012.

FOR FURTHER INFORMATION CONTACT: Aaron Siegel, 571-372-0488.

SUPPLEMENTARY INFORMATION: On Thursday, September 13, 2012 and Friday, September 14, 2012, 13 Department of Defense notices titled “Privacy Act of 1974; System of Records” published in the Federal Register. These notices are:

Thursday, September 13, 2012

2012-22581 (77 FR 56625), 2012-22583 (77 FR 56625-56626), 2012-22549 (77 FR 56628-56629), 2012-22550 (77 FR 56629-56630), 2012-22551 (77 FR 56630-56631), 2012-22582 (77 FR 56626-56627), 2012-22553 (77 FR 56633), 2012-22580 (77 FR 56632), 2012-22579 (77 FR 56627-56628), 2012-22552 (77 FR 56633-56634)

Friday, September 14, 2012

2012-22718 (77 FR 56815-56817), 2012-22647 (77 FR 56821-56822), 2012-22689 (77 FR 56822-56824)

In each of these notices, the DATES section is corrected to read as follows: “DATES: This proposed action will be effective on October 16, 2012 unless comments are received which result in a contrary determination. Comments will be accepted on or before October 15, 2012.”

Dated: September 17, 2012.
Aaron Siegel,
Alternate OSD Federal Register Liaison Officer, Department of Defense.

[FR Doc. 2012-23240 Filed 9-19-12; 8:45 am]

BILLING CODE 5001-06-P